DEPARTMENT OF THE INTERIOR

Bureau of Indian Affairs

Navajo Nation Liquor Ordinance

AGENCY: Bureau of Indian Affairs, Interior.

ACTION: Notice.

SUMMARY: This notice publishes the Navajo Nation Liquor Ordinance. The Ordinance is enacted as an amendment to the Navajo Nation Code § 412. The Ordinance regulates the control, possession, and sale of liquor on the Navajo Nation Indian trust lands, in conformity with the laws of the State of Arizona, where applicable and necessary. Although the Ordinance was adopted on July 20, 2001, it does not become effective until published in the Federal Register because the failure to comply with the Ordinance may result in criminal charges.

DATES: This Ordinance is effective on March 20, 2002.

FOR FURTHER INFORMATION CONTACT: Kaye Armstrong, Office of Tribal Services, 1849 C Street, NW., MS 4631-MIB, Washington, DC 20240-4001; telephone (202) 208-4400.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transaction in Indian country. The Navajo Nation Liquor Ordinance, which amends the Navajo Nation Code § 412, as authorized by Resolution No. CJY-62-01, was duly adopted by the Navajo Nation Council on July 20, 2001. The Navajo Nation, in furtherance of its economic and social goals, has taken positive steps to regulate retail sales of alcohol and use revenues to combat alcohol abuse and its debilitating effects among individuals and family members within the Navajo Nation.

This notice is published in accordance with the authority delegated by the Secretary of the Interior to the Assistant Secretary—Indian Affairs by 209 Departmental Manual 8.1.

I certify that by Resolution No. CJY-62-01, the Navajo Nation Liquor Ordinance, amending the Navajo Nation Code § 412, was duly adopted by the Navajo Nation Council on July 20, 2001.

Dated: March 11, 2002.
Neal A. McCaleb,
Assistant Secretary—Indian Affairs.

The Navajo Nation Liquor Ordinance, amending the Navajo Nation Code § 412, reads as follows:

Amendment to Navajo Nation Code § 412

1. The Navajo Nation Council hereby amends 17 N.N.C. § 412 in the following manner:

(c) It shall not be unlawful for any person, Indian or non-Indian, to sell, deliver, transport or consume intoxicating liquor in that part of the Navajo Nation covered by the Antelope Point Resort and Marina Business Site Lease provided that the transportation, sale, delivery and consumption of alcoholic beverages is in conformity with applicable state regulatory liquor law, specifically excluding any state regulatory liquor laws which would require the Navajo Nation and/or its Lessee to be licensed by the State of Arizona, or to be in any way subject to the administrative, executive, judicial or legislative jurisdiction of the State of Arizona, and that all sales of alcoholic beverages be at prices no less than the prices charged for similar products in adjoining areas of the State of Arizona. The Economic Development Committee of the Navajo Nation Council is hereby authorized to approve such rules and regulations as are necessary and appropriate to ensure the proper transportation, sale, delivery and consumption of alcoholic beverages within the area of the Antelope Point Business Site Lease.

2. The Navajo Nation Council further stipulates that at the end of the term of the Antelope Point Resort and Marina Business Site Lease, and any options granted thereto, this legislation shall be subject to review and reauthorization by the Navajo Nation Council.

[FR Doc. 02-6738 Filed 3-19-02; 8:45 am]

BILLING CODE 4310-04-P